DEPARTMENT OF AGRICULTURE

Forest Service

Nebraska National Forest, Nebraska & South Dakota; Black-Tailed Prairie Dog (Cynomys ludovicianus) Management on the Nebraska National Forest and Associated Units

AGENCY: Forest Service, USDA.

ACTION: Second revised notice of intent to prepare an environmental impact statement.

SUMMARY: This project would amend current management direction in the Nebraska National Forest Land and Resource Management Plan (LRMP) for black-tailed prairie dog (Cynomys ludovicianus) management on the Nebraska National Forest and associated units (NNF). The proposed LRMP amendment is to meet various multiple use objectives by: (1) Specifing the desired range of acres of prairie dog colonies that would be provided on the Nebraska National Forest and associated units; and (2) allowing the use of rodenticides if the acreage exceeds the desired range and for multiple use objectives. A Notice of Intent (NOI) to supplement the 2002 LRMP environmental impact statement (EIS) for this project was published September 29, 2006 (71 FR 57460-57462). On February 28, 2007 (72 FR 8962) a revised NOI was published indicating that the Agency would not be preparing a supplement to the 2002 LRMP EIS but would be preparing a separate environmental impact statement for black-tailed prairie dog (Cynomys ludovicianus) management on the Nebraska National Forest and associated units. This EIS would tier to 2002 LRMP. More than six months have elapsed since the projected FEIS date in that original NOI. Also, the responsible official has changed to Jane Darnell, Forest Supervisor (no change in title). This revised NOI is being issued to update the project schedule and responsible official.

DATES: The Notice of Availability of the draft environmental impact statement was published in the Federal Register on June 8, 2007 (72 FR 31822). The final environmental impact statement is expected in July, 2008. No further formal public comment opportunities will be offered on this project.

FOR FURTHER INFORMATION CONTACT: Mike McNeill, Team Leader, USDA Forest Service, at 1801 Hwy 18 Truck Bypass PO Box 732, Hot Springs, South Dakota 57747, or call (605) 745-4107.

SUPPLEMENTARY INFORMATION: Purpose and Need for Action: We conducted an interdiscinplinary review of new information and changed circumstances from the original LRMP FEIS including prolonged drought conditions, changes in praire dog numbers and distribution, and related concerns about resulting vegetation and soil conditions. The environmental impact statement will disclose the environmental effects of the proposed action while still providing: (1) Sufficient habitat to support a self-sustaining population of black-footed ferrets that contributes to the overall recovery of the species; and (2) sufficient habitat to maintain a well-distributed population of black-tailed prairie dogs and other associated species across the national grasslands.

Proposed Action: The proposed action is to amend current management direction in the LRMP to meet various multiple use objectives by: (1) Specifying the desired range of acres of prairie dog colonies that will be provided on the NNF; and (2) allowing use of rodenticide if the acreage exceeds the desired range and for multiple use objectives. This includes amending Chapter 1, Section H, Standard #1 which identifies a limited use of rodenticides.

Issues: Key issues include effects on black-tailed prairie dogs; effects on recovery of the endangered black-footed ferret; effects on other wildlife species associated with prairie dogs; effects on livestock grazing permittees; effects on vegetation cover, topsoil, and undesirable plant species; and costs and effectiveness of management strategies.

Responsible Official

The Responsible Official is Jane D. Darnell, Forest Supervisor, USDA Forest Service, 125 North Main Street, Chadron, Nebraska 69337.

Nature of Decision To Be Made

The Forest Service will decide whether or not to amend current management direction in the LRMP to meet various multiple use objectives by: (1) specifying the desired range of acres of prairie dog colonies that will be provided on the NNF; and (2) allowing use of rodenticides if the acreage exceeds the desired range and for multiple use objectives.

Public Comment

Comments and input regarding the proposal were requested from the public, other groups and agencies via direct mailing on October 6, 2006. Additional comments were solicited during September 2006 and February 2007 via public notices and an additional direct mailing. The Draft EIS was issued for a 45-day public comment in June 2007. No further formal public comment opportunities will be offered on this project.

Early Notice of Importance of Public Participation in Subsequent Environmental Review: The Forest Service believes, at this early stage, it is important to give reviewers notice of several court rulings related to public participation in the environmental review process.

First, the reviewers of the draft EIS must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft EIS. Reviewers may wish to refer to the Council on Environmental Quality Regulations for implementing the procedural provisions of the National Environmental Policy Act at 40 CFR 1503.3 regarding the specificity of comments.

Comments received, including the names and addresses of those who comment, will be considered part of the public record on this proposal and will be available for public inspection.

Authority: 40 CFR 1501.7 and 1508.22; Forest Service Handbook 1909.15, Section 21.

Dated: June 13, 2008.
Jane D. Darnell,
Forest Supervisor, Nebraska National Forest.

[FR Doc. E8-13964 Filed 6-19-08; 8:45 am]

BILLING CODE 3410-11-P